FEDERAL COMMUNICATIONS COMMISSION

47 CFR Parts 1, 2, 20, 22, 24, 27, 90 and 95

[WT Docket No. 10-4; Report No. 2979]

Petition for Reconsideration of Action in Rulemaking Proceeding

AGENCY: Federal Communications Commission.

ACTION: Petition for reconsideration.

SUMMARY: In this document, Petitions for Reconsideration (Petitions) have been filed in the Commission's Rulemaking proceeding by Russell D. Lukas on behalf of Wilson Electronics, LLC, Sean Haynberg on behalf of V-COMM, LLC, and by Mark L. Crosby on behalf of the Enterprise Wireless Alliance.

DATES: Oppositions to the Petition must be filed on or before June 21, 2013. Replies to an opposition must be filed on or before July 1, 2013.

ADDRESSES: Federal Communications Commission, 445 12th Street SW., Washington, DC 20554.

FOR FURTHER INFORMATION CONTACT: Joyce Jones, Mobility Division, Wireless Telecommunications Bureau, (202) 418-1327, TTY (202) 418-7233.

SUPPLEMENTARY INFORMATION: This is a summary of the Commission's document, Report No. 2979, released May 20, 2013. The full text of this document is available for viewing and copying in Room CY-B402, 445 12th Street SW., Washington, DC or may be purchased from the Commission's copy contractor, Best Copy and Printing, Inc. (BCPI) (1-800-378-3160). The Commission will not send a copy of this document pursuant to the Congressional Review Act, 5 U.S.C. 801(a)(1)(A), because this document does not have an impact on any rules of particular applicability.

Subject: Amendment of Parts 1, 2, 22, 24, 27, 90 and 95 of the Commission's Rules to Improve Wireless Coverage Through the Use of Signal Boosters, document FCC 13-21, published at 78 FR 21555, April 11, 2013, in WT Docket No. 10-4, and published pursuant to 47 CFR 1.429(e). See also section 1.4(b)(1) of the Commission's rules.

Number of Petitions Filed: 3.

Federal Communications Commission.
Marlene H. Dortch,
Secretary, Office of the Secretary, Office of Managing Director.

[FR Doc. 2013-13350 Filed 6-5-13; 8:45 am]

BILLING CODE 6712-01-P